COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) previously furnished by such agencies.

DATES: Comments must be received on or before: September 05, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following service(s) are proposed for addition to the Procurement List for production by the nonprofit agencies listed:

Service(s)

Service Type: Secure document destruction

Mandatory for: Department of Health and Human Services, Albuquerque Indian Health Service, Santa Fe Service Unit, Santa Fe, NM

Designated Source of Supply: Adelante Development Center, Inc., Albuquerque, NM

Contracting Activity: Indian Health Service, Albuquerque Area Indian Health SVC

Deletions

The following product(s) are proposed for deletion from the Procurement List:

Product(s)

NSN(s)—Product Name(s):

8460-00-368-4281—Case, Map and Photograph

Contracting Activity: DLA Troop Support, Philadelphia, PA

NSN(s)—Product Name(s):

8455-01-113-0062—Qualification Badge, Basic Marksman, U. S. Army

Designated Source of Supply: Fontana Resources at Work, Fontana, CA

Contracting Activity: DLA Troop Support, Philadelphia, PA

NSN(s)—Product Name(s):

7360-00-660-0526—Dining Packet, In-Flight, Deluxe

Designated Source of Supply: Cincinnati Association for the Blind, Cincinnati, OH

Contracting Activity: GSA/FSS Greater Southwest Acquisiti, Fort Worth, TX

NSN(s)—Product Name(s):

8520-01-303-4037—Toothpaste, 3.0 oz., Fluoride

8530-01-293-1387—Toothbrush, Adult, Assorted Colors, 6”, Soft Bristles

Designated Source of Supply: North Jersey Friendship House, Inc., Hackensack, NJ

Contracting Activity: GSA/FSS Greater Southwest Acquisiti, Fort Worth, TX

NSN(s)—Product Name(s):

8455-01-113-0066—Qualification Badge, Basic Sharpshooter, U.S. Army

Designated Source of Supply: Fontana Resources at Work, Fontana, CA

Contracting Activity: DLA Troop Support, Philadelphia, PA

Michael R. Jurkowski,
Deputy Director, Business Operations.

[FR Doc. 2021-16816 Filed 8-5-21; 8:45 am]

BILLING CODE 6353-01-P